RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Request for Internet Services.

(2) Form(s) submitted: Not applicable.

(3) OMB Number: 3220-XXXX.

(4) Expiration date of current OMB clearance: Not applicable.

(5) Type of request: New.

(6) Respondents: Individuals or households.

(7) Estimated annual number of respondents: 5,000.

(8) Total annual responses: 10,000.

(9) Total annual reporting hours: 541.

(10) Collection description: The Railroad Retirement Board (RRB) will collect information needed to provide customers with the ability to request a Password Request Code and subsequently, to establish an individual PIN/Password, the initial steps in providing the option of conducting transactions with the RRB on a routine through the Internet as required by the Government Paperwork Elimination Act.

FOR FURTHER INFORMATION CONTACT: Copies of the forms and supporting documents can be obtained from Chuck Mierzwa, the agency clearance officer (312-751-3363).

Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 02-18926 Filed 7-25-02; 8:45 am]

BILLING CODE 7905-01-M